DEPARTMENT OF TRANSPORTATION

Federal Aviation Administration

14 CFR Part 39

[Docket No. FAA-2012-1078; Directorate Identifier 2011-NM-012-AD]

RIN 2120-AA64

Airworthiness Directives; Lockheed Martin Corporation/Lockheed Martin Aeronautics Company Airplanes

AGENCY: Federal Aviation Administration (FAA), DOT.

ACTION: Notice of proposed rulemaking (NPRM).

SUMMARY: We propose to supersede an existing airworthiness directive (AD) that applies to all Lockheed Martin Corporation/Lockheed Martin Aeronautics Company Model L-1011 series airplanes. The existing AD currently requires repetitive inspections to detect corrosion or fatigue cracking of certain structural elements of the airplane; corrective actions if necessary; and incorporation of certain structural modifications. Since we issued that AD, we have received reports of small cracks in additional areas outside those addressed in the existing AD, prior to the inspection threshold required by the existing AD. This proposed AD would reduce certain compliance times for the initial inspection, and the repetitive inspection interval for certain airplanes. We are proposing this AD to prevent corrosion or fatigue cracking of certain structural elements, which could result in reduced structural integrity of the airplane.

DATES: We must receive comments on this proposed AD by November 30, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Lockheed Martin Corporation/Lockheed Martin Aeronautics Company, Airworthiness Office, Dept. 6A0M, Zone 0252, Column P-58, 86 S. Cobb Drive, Marietta, Georgia 30063; telephone 770-494-5444; fax 770-494-5445; email ams.portal@lmco.com; Internet http://www.lockheedmartin.com/ams/tools/TechPubs.html. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Carl Gray, Aerospace Engineer, Airframe Branch, ACE-117A, FAA, Atlanta Aircraft Certification Office (ACO), 1701 Columbia Avenue, College Park, Georgia 30337; phone: 404-474-5554; fax: 404-474-5605; email: carl.w.gray@faa.gov.

SUPPLEMENTARY INFORMATION:

Comments Invited

We invite you to send any written relevant data, views, or arguments about this proposed AD. Send your comments to an address listed under the ADDRESSES section. Include “Docket No. FAA-2012-1078; Directorate Identifier 2011-NM-012-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On July 8, 2005, we issued AD 2005-15-01, Amendment 39-14191 (70 FR 42262, July 22, 2005), for all Lockheed Martin Corporation/Lockheed Martin Aeronautics Company Model L-1011 series airplanes. That AD requires repetitive inspections to detect corrosion or fatigue cracking of certain structural elements of the airplane; corrective actions if necessary; and incorporation of certain structural modifications. That AD resulted from new recommendations related to incidents of fatigue cracking and corrosion in transport category airplanes that are approaching or have exceeded their economic design goal. We issued that AD to prevent corrosion or fatigue cracking of certain structural elements, which could result in reduced structural integrity of the airplane.

Actions Since Existing AD Was Issued

Since we issued AD 2005-15-01, Amendment 39-14191 (70 FR 42262, July 22, 2005), we have received reports of small cracks found outside the areas addressed by the existing AD. Specifically, these cracks were found from inner wing station (IWS) 477.70 to IWS 372.64 (inboard) and from outer wing station (OWS) 52.2 to OWS 296.5 (outboard).

Relevant Service Information

AD 2005-15-01, Amendment 39-14191 (70 FR 42262, July 22, 2005), refers to Lockheed Tristar L-1011 Service Bulletin 093-51-041, Revision 1, dated March 3, 2000 (a “collector service bulletin”), as the appropriate source of service information for the required actions. This service bulletin has since been revised. We have reviewed Lockheed Service Bulletin 093-51-041, Revision 2, dated March 30, 2010, which, in turn, refers to Lockheed Service Bulletin 093-57-195, now at Revision 4, dated March 17, 2010.

Lockheed Service Bulletin 093-57-195, Revision 4, dated March 17, 2010, includes the following changes:

• Supersedes Lockheed Service Bulletin 093-57-069, Revision 4, dated October 5, 1998.

• Reduces the initial inspection threshold to 15,000 flight cycles; or 15,000 flight cycles after incorporation of Lockheed Service Bulletin 093-57-069, Revision 4, dated October 5, 1998.

• Reduces the repetitive inspection interval to 1,750 flight cycles for Model L-1011-385-3 airplanes.

• Changes the fastener hole cold working procedure from “FTI-LCC-8701” to “FTI-LASC-51-20-01.”

FAA's Determination

We are proposing this AD because we evaluated all the relevant information and determined the unsafe condition described previously is likely to exist or develop in other products of these same type designs.

Proposed AD Requirements

This proposed AD would retain all requirements of AD 2005-15-01, Amendment 39-14190 (70 FR 42262, July 22, 2005). This proposed AD would reduce the initial inspection threshold for certain airplanes for accomplishment of the actions specified in Lockheed Service Bulletin 093-57-195, Revision 4, dated March 17, 2010, and would reduce the repetitive inspection interval for Model L-1011-385-3 airplanes. This proposed AD would also require accomplishing the actions specified in the service information described previously.

Changes to Existing AD

This proposed AD would retain all requirements of AD 2005-15-01, Amendment 39-14191 (70 FR 42262, July 22, 2005). Since AD 2005-15-01 was issued, the AD format has been revised, and certain paragraphs have been rearranged. As a result, the corresponding paragraph identifiers have changed in this proposed AD, as listed in the following table:

Revised Paragraph Identifiers
Requirement in AD 2005-15-01, Amendment 39-14190 (70 FR 42262, July 22, 2005) | Corresponding requirement in this proposed AD
paragraph (a) | paragraph (g).
paragraph (b) | paragraph (h).
paragraph (c) | paragraph (i).

In addition, we have removed paragraph (b)(2) from AD 2005-15-01, Amendment 39-14190 (70 FR 42262, July 22, 2005), and added a new sentence to paragraph (h)(3) of this proposed AD to specify that information on additional methods of compliance can be obtained from the Manager, Atlanta Aircraft Certification Office (ACO). We might decide to approve certain sections of the Lockheed L-1011 structural repair manual as an alternative method of compliance with this proposed AD, as provided by paragraph (l) of this proposed AD.

We have also revised the applicability of the existing AD 2005-15-01, Amendment 39-14190 (70 FR 42262, July 22, 2005), to identify model designations as published in the most recent type certificate data sheet for the affected models.

Costs of Compliance

We estimate that this proposed AD affects 26 airplanes of U.S. registry. We estimate the following costs to comply with this proposed AD:

Estimated Costs
Action | Labor cost | Parts cost | Cost per product | Cost on U.S. operators
Inspections [retained actions from existing AD 2005-15-01, Amendment 39-14191 (70 FR 42262, July 22, 2005)] | 129 work-hours × $85 per hour = $10,965 per inspection cycle | $0 | $10,965 per inspection cycle | $285,090 per inspection cycle.
Modification [retained action from existing AD 2005-15-01, Amendment 39-14191 (70 FR 42262, July 22, 2005)] | 614 work-hours × $85 per hour = $52,190 | $142,275 | $194,465 | $5,056,194.

We have received no definitive data that would enable us to provide cost estimates for the retained on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2005-15-01, Amendment 39-14190 (70 FR 42262, July 22, 2005), and adding the following new AD:

Lockheed Martin Corporation/Lockheed Martin Aeronautics Company: Docket No. FAA-2012-1078; Directorate Identifier 2011-NM-012-AD.

(a) Comments Due Date

The FAA must receive comments on this AD action by November 30, 2012.

(b) Affected ADs

This AD supersedes AD 2005-15-01, Amendment 39-14190 (70 FR 42262, July 22, 2005).

(c) Applicability

This AD applies to all Lockheed Martin Corporation/Lockheed Martin Aeronautics Company Model L-1011-385-1, L-1011-385-1-14, L-1011-385-1-15, and L-1011-385-3 airplanes; certificated in any category.

(d) Subject

Joint Aircraft System Component (JASC)/Air Transport Association (ATA) of America Code 51, Standard practices/structures; 52, Doors; 53, Fuselage; 57, Wings.

(e) Unsafe Condition

This AD was prompted by reports of small cracks in additional areas outside those addressed in the existing AD (AD 2005-15-01, Amendment 39-14190 (70 FR 42262, July 22, 2005)), prior to the inspection threshold required by the existing AD. We are issuing this AD to prevent corrosion or fatigue cracking of certain structural elements, which could result in reduced structural integrity of the airplane.

(f) Compliance

Comply with this AD within the compliance times specified, unless already done.

(g) Retained Inspections With Revised Service Information and Reduced Compliance Times

This paragraph restates the inspection required by paragraph (a) of AD 2005-15-01, Amendment 39-14190 (70 FR 42262, July 22, 2005), with revised service information and reduced compliance times for paragraph (g)(16) of this AD. At the time specified in the “Initial Compliance Time” column of table 1 to paragraph (g) of this AD, perform structural inspections to detect corrosion or fatigue cracking of certain structural elements of the airplane, in accordance with the applicable service bulletins listed under “Service Bulletin Number, Revision, and Date” in tables I and II of Lockheed Tristar L-1011 Service Bulletin 093-51-041, Revision 1, dated March 3, 2000, or Revision 2, dated March 30, 2010. As of the effective date of this AD, only Lockheed Tristar L-1011 Service Bulletin 093-51-041, Revision 2, dated March 30, 2010, may be used for the actions required by this paragraph. Thereafter, repeat the inspections at intervals specified in the “Repetitive Intervals” column of table 1 to paragraph (g) of this AD.

Table 1 to Paragraph (g) of This AD
Lockheed TriStar L-1011 Service Bulletin | Initial compliance time (whichever occurs later between the times in “Inspection Threshold” and “Grace Period”): Inspection threshold | Initial compliance time (whichever occurs later between the times in “Inspection Threshold” and “Grace Period”): Grace period | Repetitive intervals | Terminating action
(1) 093-53-269, Revision 1, dated October 28, 1997; or | Before the accumulation of 8,000 total flight cycles or 15,000 total flight hours, whichever occurs first | Within 6,450 flight cycles or 5 years after August 26, 2005 (the effective date of AD 2005-15-01, Amendment 39-14190 (70 FR 42262, July 22, 2005)), whichever occurs first | At intervals not to exceed 6,450 flight cycles or 5 years, whichever occurs first | (None).
(2) 093-53-274, dated May 28, 1997 | Within 14 months after August 26, 2005 (the effective date of AD 2005-15-01, Amendment 39-14190 (70 FR 42262, July 22, 2005)) | (None) | At intervals not to exceed 14 months | (None).
(3) 093-53-275, dated December 10, 1996 | Within 6,450 flight cycles or 5 years after August 26, 2005 (the effective date of AD 2005-15-01, Amendment 39-14190 (70 FR 42262, July 22, 2005)), whichever occurs first | (None) | (None) | (None).
(4) 093-53-276, dated June 17, 1996 | At the next Corrosion Prevention and Control Program (CPCP) inspection after August 26, 2005 (the effective date of AD 2005-15-01, Amendment 39-14190 (70 FR 42262, July 22, 2005)) | (None) | At intervals not to exceed the next CPCP inspection | (None).
(5) 093-57-085, Revision 1, dated December 1, 1997 | Before the accumulation of 26,000 total flight cycles or 48,000 total flight hours, whichever occurs first | Within 1,800 flight cycles or 3,300 flight hours after August 26, 2005 (the effective date of AD 2005-15-01, Amendment 39-14190 (70 FR 42262, July 22, 2005)), whichever occurs first | At intervals not to exceed 1,800 flight cycles or 3,300 flight hours, whichever occurs first | Modification in accordance with Lockheed TriStar L-1011 Service Bulletin 093-57-085, Basic Issue, dated May 7, 1993; or Revision 1, dated December 1, 1997.
(6) 093-57-208, Revision 1, dated October 28, 1997 | Before the accumulation of 18,000 total flight cycles | Within 6,450 flight cycles or 5 years after August 26, 2005 (the effective date of AD 2005-15-01, Amendment 39-14190 (70 FR 42262, July 22, 2005)), whichever occurs first | At intervals not to exceed 6,450 flight cycles or 5 years, whichever occurs first | (None).
(7) 093-52-210, dated July 19, 1991 | Within 5,000 flight hours or 18 months after August 26, 2005 (the effective date of AD 2005-15-01, Amendment 39-14190 (70 FR 42262, July 22, 2005)), whichever occurs first | (None) | (None) | (None).
(8) 093-53-054, Revision 1, dated August 12, 1975 | Within 6,450 flight cycles or 5 years after August 26, 2005 (the effective date of AD 2005-15-01, Amendment 39-14190 (70 FR 42262, July 22, 2005)), whichever occurs first | (None) | (None) | (None).
(9) 093-53-070, Revision 3, dated September 19, 1989 | Before the accumulation of 6,000 total flight hours | Within 1,500 flight hours after August 26, 2005 (the effective date of AD 2005-15-01, Amendment 39-14190 (70 FR 42262, July 22, 2005)) | At intervals not to exceed 3,000 flight hours | Modification in accordance with Lockheed TriStar L-1011 Service Bulletin 093-53-070, Basic Issue, dated September 26, 1974; Revision 1, dated January 23, 1975; Revision 2, dated July 7, 1975; or Revision 3, dated September 19, 1989.
(10) 093-53-085, Revision 3, dated December 15, 1989 | Part I: Before the accumulation of 20,000 flight cycles or 37,000 total flight hours, whichever occurs first | Part I: Within 1,600 flight cycles or 3,000 flight hours after August 26, 2005 (the effective date of AD 2005-15-01, Amendment 39-14190 (70 FR 42262, July 22, 2005)), whichever occurs first | Part I: At intervals not to exceed 1,600 flight cycles or 3,000 flight hours, whichever occurs first | Modification in accordance with Lockheed TriStar L-1011 Service Bulletin 093-53-085, Basic Issue, dated September 29, 1975; Revision 1, dated September 3, 1976; or Revision 2, dated February 8, 1988.
| Part II: Before the accumulation of 30,000 flight cycles or 55,000 total flight hours, whichever occurs first | Part II: Within 5,000 flight cycles or 9,200 flight hours after August 26, 2005 (the effective date of AD 2005-15-01, Amendment 39-14190 (70 FR 42262, July 22, 2005)), whichever occurs first | Part II: At intervals not to exceed 5,000 flight cycles or 9,200 flight hours, whichever occurs first | Modification in accordance with Lockheed TriStar L-1011 Service Bulletin 093-53-085, Basic Issue, dated September 29, 1975; Revision 1, dated September 3, 1976; or Revision 2, dated February 8, 1988.
(11) 093-53-086, Revision 5, dated April 12, 1990 | Before the accumulation of 9,000 flight cycles or 10,000 flight hours, whichever occurs first | Within 1,600 flight cycles or 3,000 flight hours after August 26, 2005 (the effective date of AD 2005-15-01, Amendment 39-14190 (70 FR 42262, July 22, 2005)), whichever occurs first | At intervals not to exceed 1,600 flight cycles or 3,000 flight hours, whichever occurs first | Modification in accordance with Lockheed TriStar L-1011 Service Bulletin 093-53-086, Basic Issue, dated September 26, 1975; Revision 1, dated November 12, 1975; Revision 2, dated December 12, 1976; Revision 3, dated July 19, 1977; Revision 4, dated July 8, 1985; or Revision 5, dated April 12, 1990.
(12) 093-53-110, Revision 1, dated May 7, 1993 | Before the accumulation of 22,000 total flight cycles or 40,000 total flight hours, whichever occurs first | Within 2,200 flight cycles or 4,000 flight hours after August 26, 2005 (the effective date of AD 2005-15-01, Amendment 39-14190 (70 FR 42262, July 22, 2005)), whichever occurs first | At intervals not to exceed 2,200 flight cycles or 4,000 flight hours, whichever occurs first | Modification in accordance with Lockheed TriStar L-1011 Service Bulletin 093-53-110, Basic Issue, dated August 19, 1991; or Revision 1, dated May 7, 1993.
(13) Change Notification 093-53-260, CN4, dated May 8, 1998 | Before the accumulation of 8,000 total flight cycles or 20,000 total flight hours, whichever occurs first | Within 800 flight cycles or 1,500 flight hours after August 26, 2005 (the effective date of AD 2005-15-01, Amendment 39-14190 (70 FR 42262, July 22, 2005)), whichever occurs first | At intervals not to exceed 800 flight cycles or 1,500 flight hours, whichever occurs first | Inspection and modification in accordance with Part 2.A. of Lockheed TriStar L-1011 Service Bulletin 093-53-260, Basic Issue, dated May 15, 1991.
(14) Change Notification 093-53-266, CN1, dated July 10, 1992 | Within 12 months after August 26, 2005 (the effective date of AD 2005-15-01, Amendment 39-14190 (70 FR 42262, July 22, 2005)) | (None) | At intervals not to exceed 90 days | Modification in accordance with Lockheed TriStar L-1011 Service Bulletin 093-53-266, Basic Issue, dated March 2, 1992.
(15) Change Notification 093-57-058, R5-CN1, dated May 3, 1993 | Before the accumulation of 20,000 total flight cycles or 37,000 total flight hours, whichever occurs first | Within 1,600 flight cycles or 3,000 flight hours after August 26, 2005 (the effective date of AD 2005-15-01, Amendment 39-14190 (70 FR 42262, July 22, 2005)), whichever occurs first | At intervals not to exceed 1,600 flight cycles or 3,000 flight hours, whichever occurs first | Modification in accordance with Lockheed TriStar L-1011 Service Bulletin 093-57-058, Basic Issue, dated September 16, 1975; Revision 1, dated December 1, 1976; Revision 2, dated June 30, 1978; Revision 3, dated October 19, 1978; or Revision 4, dated July 6, 1981, Revision 5, dated June 9, 1983.
(16) Change Notification 093-57-195, R3-CN1, dated August 22, 1995, or Lockheed TriStar L-1011 Service Bulletin 093-57-195, Revision 4, dated March 17, 2010 | At the applicable time specified in paragraph (j) of this AD | At the applicable time specified in paragraph (j) of this AD | At the applicable time specified in paragraph (k) of this AD | Modification in accordance with Lockheed TriStar L-1011 Service Bulletin 093-57-195, Revision 2, dated July 27, 1990; Revision 3, dated June 30, 1992; or Revision 4, dated March 17, 2010
(17) Change Notification 093-57-213, CN1, dated February 20, 1996 | For Model L-1011-385-1, L-1011-385-1-14, L-1011-385-1-15: Before the accumulation of 15,000 total flight cycles For Model L-1011-385-3: Before the accumulation of 10,000 total flight cycles | Within 6,450 flight cycles or 5 years after August 26, 2005 (the effective date of AD 2005-15-01, Amendment 39-14190 (70 FR 42262, July 22, 2005)), whichever occurs first | At intervals not to exceed 6,450 flight cycles or 5 years, whichever occurs first | Repair or modification in accordance with Lockheed TriStar L-1011 Service Bulletin 093-57-213, Basic Issue, dated December 9, 1994.

(h) Retained Corrective Action With a Certain Compliance Method Removed

This paragraph restates the corrective action required by paragraph (b) of AD 2005-15-01, Amendment 39-14190 (70 FR 42262, July 22, 2005), with certain exceptions. If any cracking or corrosion is detected during any inspection required by paragraph (g) of this AD, prior to further flight, accomplish the actions specified in paragraph (h)(1), (h)(2), or (h)(3) of this AD.

(1) Repair in accordance with the applicable service bulletin referenced in table I or II of Lockheed Tristar L-1011 Service Bulletin 093-51-041, Revision 1, dated March 3, 2000, or Revision 2, dated March 30, 2010.

(2) Accomplish the terminating modification in accordance with the applicable service bulletin referenced in table I or II of Lockheed Tristar L-1011 Service Bulletin 093-51-041, Revision 1, dated March 3, 2000, or Revision 2, dated March 30, 2010.

(3) Repair in accordance with a method approved by the Manager, Atlanta Aircraft Certification Office (ACO), FAA. Information on additional methods of compliance can be obtained from the Manager, Atlanta ACO.

(i) Retained Terminating Action

This paragraph restates the terminating action required by paragraph (c) of AD 2005-15-01, Amendment 39-14190 (70 FR 42262, July 22, 2005). Within 5 years or 5,000 flight cycles after August 26, 2005 (the effective date of AD 2005-15-01), whichever occurs first, install the terminating modification referenced in the applicable service bulletin listed in table 1 to paragraph (g) of this AD, in accordance with the applicable service bulletin. Such installation constitutes terminating action for the applicable structural inspection required by paragraph (g) of this AD.

(j) Newly Revised Initial Inspection Compliance Time for Certain Airplanes

For airplanes identified in Lockheed TriStar L-1011 Service Bulletin 093-57-195, Revision 4, dated March 17, 2010: Do the initial inspection required by paragraph (g)(16) of this AD at the applicable time specified in paragraph (j)(1) or (j)(2) of this AD.

(1) For airplanes having serial numbers (S/Ns) 1002 through 1109 inclusive: At the earlier of the times specified in paragraphs (j)(1)(i) and (j)(1)(ii) of this AD.

(i) Before the accumulation of 20,000 total flight cycles, or within 2,200 flight cycles after August 26, 2005 (the effective date of AD 2005-15-01, Amendment 39-14190 (70 FR 42262, July 22, 2005)), whichever occurs later.

(ii) Before the accumulation of 15,000 total flight cycles, or within 2,200 flight cycles after the effective date of this AD, whichever occurs later.

(2) For airplanes having S/Ns 1110 through 1250 inclusive: At the earlier of the times specified in paragraphs (j)(2)(i) and (j)(2)(ii) of this AD.

(i) Before the accumulation of 30,000 total flight cycles, or within 2,200 flight cycles after August 26, 2005 (the effective date of AD 2005-15-01, Amendment 39-14190 (70 FR 42262, July 22, 2005)), whichever occurs later.

(ii) Before the accumulation of 15,000 total flight cycles, or within 2,200 flight cycles after the effective date of this AD, whichever occurs later.

(k) Newly Revised Repetitive Intervals for Certain Airplanes

For airplanes identified in paragraph (j) of this AD, repeat the inspection required by paragraph (j) of this AD thereafter at the applicable times specified in paragraph (k)(1) or (k)(2) of this AD.

(1) For airplanes having S/Ns 1002 through 1156 inclusive: Repeat the inspection at intervals not to exceed 2,200 flight cycles.

(2) For airplanes having S/Ns 1157 through 1250 inclusive: Repeat the inspection one time within 2,200 flight cycles after the most recent inspection; and thereafter at intervals not to exceed 1,750 flight cycles.

(l) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(m) Related Information

(1) For more information about this AD, contact Carl Gray, Aerospace Engineer, Airframe Branch, ACE-117A, FAA, Atlanta Aircraft Certification Office (ACO), 1701 Columbia Avenue, College Park, Georgia 30337; phone: 404-474-5554; fax: 404-474-5605; email: carl.w.gray@faa.gov.

(2) For service information identified in this AD, contact Lockheed Martin Corporation/Lockheed Martin Aeronautics Company, Airworthiness Office, Dept. 6A0M, Zone 0252, Column P-58, 86 S. Cobb Drive, Marietta, Georgia 30063; telephone 770-494-5444; fax 770-494-5445; email ams.portal@lmco.com; Internet http://www.lockheedmartin.com/ams/tools/TechPubs.html. You may review copies of the referenced service information at the FAA, Transport Airplane Directorate, 1601 Lind Avenue SW., Renton, Washington. For information on the availability of this material at the FAA, call 425-227-1221.

Issued in Renton, Washington, on October 5, 2012.
Ali Bahrami,
Manager, Transport Airplane Directorate, Aircraft Certification Service.

[FR Doc. 2012-25463 Filed 10-15-12; 8:45 am]

BILLING CODE 4910-13-P